DEPARTMENT OF HEALTH AND HUMAN SERVICES

Centers for Disease Control and Prevention

Practices To Improve Training Skills of Home Visitors

Announcement Type: New.

Funding Opportunity Number: PA 04053.

Catalog of Federal Domestic Assistance Number: 93.136.

Key Dates: ______.

Letter of Intent Deadline: December 31, 2003.

Application Deadline: February 19, 2004.

I. Funding Opportunity Description

Authority: This program is authorized under section 391 (a) of the Public Health Service Act (42 U.S.C. 280b (a)), as amended.

Purpose

The Centers for Disease Control and Prevention (CDC) announces the availability of fiscal year (FY) 2004 funds for a cooperative agreement program to conduct a systematic examination of the impact of home visitor training and factors related to the implementation (i.e., competency of visitors providing services, adequate coverage of content according to a pre-specified protocol) of an existing efficacious or effective home visiting program on family outcomes of child maltreatment and risk behaviors for youth violence (e.g., poor parent-child relations; harsh, lax, or inconsistent discipline). This program addresses the “Healthy People 2010” focus area of Injury and Violence Prevention.

Measurable outcomes of the program will be in alignment with the following performance goal for the National Center for Injury Prevention and Control (NCIPC): Conduct a targeted program of research to reduce injury-related death and disability.

Research Objectives

Home visiting programs to assist at-risk families have existed for more than a century and are widespread throughout the United States and Europe (United States General Accounting Office, 1990). Home-based programs have been reported to be effective in preventing child maltreatment (Guide to Community Preventive Services, 2002; MacLeod & Nelson, 2000; Roberts, 1997; Thornton et al., 2000) and have been recommended as a child maltreatment prevention strategy (Guide to Community Preventive Services, 2002). In addition, evaluations have suggested that home visiting programs may positively impact children's physical health and well-being (e.g., Bidgood & van de Sande, 1990; United States General Accounting Office, 1990). The literature suggests home visiting is a promising strategy to promote healthy family relationships and children's social, cognitive and character development, thereby decreasing children's risk for subsequent youth violence and delinquency (Thornton, Craft, Dahlberg, Lynch, & Baer, 2000).

However, effects of home visiting can be modest or short-lived (MacLeod & Nelson, 2000; Bidgood & van de Sande, 1990; Roberts, 1997), and the relative effectiveness of home visiting at preventing child maltreatment varies widely with the particular program being evaluated (Chaffin, 2001; Gomby, Culross, & Behrman, 1999; MacLeod & Nelson, 2000; MacMillan, MacMillan, Offord, Griffith, & MacMillan, 1994; Guterman, 1997). For most home visiting programs, information on the quality and implementation of services is limited, if not altogether lacking, suggesting the need to systematically examine: (1) training of service providers and (2) program implementation, as these variables may be key to home visiting's effectiveness.

Recommendations to improve the effectiveness of home visiting programs frequently include improved training, implementation, and quality and structure of services (e.g., Gomby et al., 1999; Roberts, 1997; United States General Accounting Office, 1990).

Research funded under this announcement is expected to address one of two research questions:

(1) Do performance criteria measures; fidelity measures, or other training practices (separately or together) improve staff performance and family outcomes in home visiting programs? Performance criteria measures require trainees to demonstrate mastery of skills to pre-determined standards. Fidelity measures require that those standards are maintained during follow-up observations, with retraining as needed to maintain the standards. Family outcomes relevant to this project would necessarily include but are not limited to incidents of child maltreatment, parenting behaviors, and children's behavioral, emotional, and cognitive adjustment.

(2) What training practices improve or enhance paraprofessionals' performance compared to professionals' performance and family outcomes in home visiting programs? Paraprofessionals are individuals without advanced training in the fields of mental health or medicine, such as peer mentors whereas professionals are individuals with advanced training in the fields of mental health or medicine, such as master's level social workers, psychologists, nurses, etc.

If a grantee chooses to respond to both questions, two separate applications should be submitted.

Funding Priority

Public comments on the proposed Funding Priority are not being solicited due to insufficient time prior to the funding date. Funding Priorities will be given to programs that address one of the research questions, provide evidence of an existing home visiting program, and are consistent with the CDC NCIPC Injury Research Agenda (http://www.cdc.gov/ncipc).

Funding Preferences

Funding preference will be given to proposals that:

• Provide more stringent and rigorous evaluation designs, and provide evidence of the capacity to develop a research design and methodology. A plan must be provided to evaluate the independent and combined impact of various factors related to training and program implementation on family outcomes.

• Demonstrate expertise in development and evaluation of preventive interventions for child maltreatment or youth violence.

• Provide evidence of the efficacy or effectiveness of an existing home visiting program for the prevention of child maltreatment and/or risk behaviors for youth violence.

• Include plans for ensuring that the project is carried out as designed and the target community or population receives or has access to the intervention (i.e., program exposure).

• Provide a data analysis plan that is appropriate to research design and hypotheses, the intervention, and data collection measures. Plan must anticipate and evaluate the effect of threats to the internal and external validity of the specified research design.

• Target traditionally underserved communities.

Activities

Awardee activities for this program are as follows:

1. Develop and finalize the research design and methodology, data collection measures, methods, analyses, and disseminate the study results through publications and presentations.

2. Obtain approval of the study protocol by the recipient's local IRB. Collaborate with CDC in the development of a research protocol for CDC Institutional Review Board (IRB) review.

3. Develop a standardized established protocol (e.g., manual) for the delivery of services to clients in their homes that allows for documentation of the nature and quality of the services delivered. The proposed interventions of the home visiting protocol must reflect cultural sensitivity and responsiveness.

4. Provide and evaluate a curriculum for the training of home visitors that allows for the examination of the impact of different training practices on trainees' skill and knowledge acquisition, competence, and delivery of services. The various training components or practices may be tested as a package, but should allow for dismantling of the individual effects of each component and should include documentation of training. The design should include adequate assessment and control for the pre-training characteristics of trainees, including trainees' personal attributes, knowledge, skills, and abilities.

5. Collect data on program implementation. This may include direct observation of staff performance, supervisor ratings, and additional indirect measures.

6. Collect data on the costs of training and implementation of the home visitation program.

7. Conduct one site visit to meet with CDC staff in Atlanta on an annual basis.

8. Complete all required reports as specified under “Reporting Requirements'.

In a cooperative agreement, CDC staff is substantially involved in the program activities, above and beyond routine grant monitoring.

CDC Activities for this program are as follows:

1. Provide scientific and programmatic consultation. CDC will collaborate with project staff on decision-analyses, research design and methodology, data collection and analyses, programmatic issues, and dissemination of the study results in publications and presentations.

2. Assist in the development of a research protocol for Institutional Review Board (IRB) review by all cooperating institutions participating in the research project. The CDC IRB must review and approve the protocol initially and on at least an annual basis until the research project is completed.

3. CDC staff will monitor and review scientific and operational accomplishments of the project through conference calls, site visits, and review of technical reports.

II. Award Information

Type of Award: Cooperative Agreement. CDC involvement in this program is listed in the Activities section above.

Fiscal Year Funds: FY 2004.

Approximate Total Funding: $500,000.

Approximate Number of Awards: Two.

Approximate Average Award: $250,000.

Floor of Award Range: $250,000.

Ceiling of Award Range: $250,000.

Anticipated Award Date: September 1, 2004.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

1. Eligible applicants: Applications may be submitted by public and nonprofit private and for profit organizations and by governments and their agencies, such as:

• Public nonprofit organizations.

• Private nonprofit organizations.

• For profit organizations.

• Small, minority, women-owned businesses.

• Universities.

• Colleges.

• Research institutions.

• Hospitals.

• Community-based organizations.

• Faith-based organizations.

• Federally recognized Indian tribal governments.

• Indian tribes.

• Indian tribal organizations.

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau).

• Political subdivisions of States (in consultation with States).

A Bona Fide Agent is an agency/organization identified by the state as eligible to submit an application under the state eligibility in lieu of a state application. If you are applying as a bona fide agent of a state or local government, you must provide a letter from the state or local government as documentation of your status. Place this documentation behind the first page of your application form.

2. Cost Sharing or Matching: Matching funds are not required for this program.

3. Other Eligibility Requirements: If your application is incomplete or non-responsive to the requirements listed below, it will not be entered into the review process. You will be notified that your application did not meet the submission requirements. The following applicant requirements are:

• A principal investigator who has documented prior training and experience in conducting efficacy and effectiveness trials.

• A principal investigator who has conducted research, published the findings in peer-reviewed journals, and has specific authority and responsibility to carry out the proposed project.

• Demonstrated experience on the applicant's project team in conducting, evaluating, and publishing violence prevention research in peer-reviewed journals.

• Effective and well-defined working relationships within the performing organization and with outside entities, which will ensure implementation of the proposed activities.

• The requested funding amount should not be greater than the ceiling of the award range.

• It is especially important to include an abstract that reflects the project's focus, because the abstract will be used to help determine the responsiveness of the application.

Note: Title 2 of the United States Code section 1611 states that an organization described in section 501(c)(4) of the Internal Revenue Code that engages in lobbying activities is not eligible to receive Federal funds constituting an award, grant, or loan.

4. Individuals Eligible To Become Principal Investigators: Any individual with the skills, knowledge, and resources necessary to carry out the proposed research is invited to work with their institution to develop an application for support. Individuals from underrepresented racial and ethnic groups as well as individuals with disabilities are always encouraged to apply for CDC programs.

IV. Application and Submission Information

1. Address To Request Application Package

To apply for this funding opportunity, use application form PHS 398 (OMB number 0925-0001 rev. 5/2001). Forms and instructions are available in an interactive format on the CDC Web site, at the following Internet address: www.cdc.gov/od/pgo/forminfo.htm.

Forms and instructions are also available in an interactive format on the National Institutes of Health (NIH) Web site at the following Internet address: http://grants.nih.gov/grants/funding/phs398/phs398.html.

If you do not have access to the Internet, or if you have difficulty accessing the forms online, you may contact the CDC Procurement and Grants Office Technical Information Management Section (PGO-TIM) staff at: 770-488-2700. Application forms can be mailed to you.

2. Content and Form of Application Submission

Letter of Intent (LOI)

CDC requests that you send a LOI if you intend to apply for this program. Although the LOI is not required, not binding, and does not enter into the review of your subsequent application, your LOI will be used to gauge the level of interest in this program, and to allow CDC to plan the application review. Your LOI must be written in the following format:

• Maximum number of pages: Two.

• Font size: 12-point unreduced.

• Single spaced.

• Paper size: 8.5 by 11 inches.

• Page margin size: One inch page.

• Printed only on one side of page.

• Written in English, avoid jargon.

Your LOI must contain the following information:

• Descriptive title of the proposed research.

• Name, address, e-mail address, and telephone number of the Principal Investigator.

• Names of other key personnel.

• Participating institutions.

• Number and title of this Program Announcement (PA).

Application

Follow the PHS 398 application instructions for content and formatting of your application. For further assistance with the PHS 398 application form, contact GrantsInfo, Telephone (301) 435-0714, E-mail: GrantsInfo@nih.gov. The Program Announcement Title and number must appear in the application.

You must include a research plan with your application. The research plan should be no more than 25 pages.

Your application will be evaluated on the criteria listed under Section V. Application Review Information, so it is important to follow them, as well as the Research Objectives and the Administrative and National Policy Requirements (AR's), in laying out your research plan.

Your research plan should address activities to be conducted over the entire project period. The research plan should consist of the following information:

1. Abstract. It is especially important to include an abstract that reflects the project's focus, because the abstract will be used to help determine the responsiveness of the application.

2. Program Goals and Objectives. Describe the goals and objectives the proposed research is designed to achieve in the short and long term. Specific research questions and hypotheses should be included.

3. Program Participants. Provide a justification and description of the specific population of families targeted, including the demographic and geographic characteristics of the community and/or neighborhood in which the intervention will take place. In addition, the proposal should provide evidence that the recipient has the capacity and community support necessary to successfully evaluate the training component of the home visiting program. Describe how the study sample(s) is defined. A description of how recruitment, retention and referral of participants will be handled should also be included.

4. Intervention. Describe the proposed strategies or components of the plan for implementing the research. This should include a description of the training and intervention components (including training criteria and how fidelity of training and the home-visiting program will be assessed), and procedures.

5. Evaluation Design. Describe the proposed design; methods and analysis plan for assessing the efficacy or effectiveness of the existing home-visiting program. The specific type of research method chosen should reflect the nature of the intervention, feasibility, and ethical considerations. Potential threats to the validity of the study should be described along with how such threats will be recognized and addressed. The status of all necessary measurement instruments should be described and include direct and indirect measures of child maltreatment and youth violence and/or risk for youth violence. If any materials are not extant, the methods and time frame for measure development, pilot testing, and validation should be given. For data collected from archival records (e.g., CPS records, school records, etc.) the proposal should discuss issues of accessibility, reliability, and validity of those data.

6. Project Management. Provide evidence of the expertise, capacity, and support necessary to successfully implement and evaluate the impact of the program. Each existing or proposed staff position for the project should be described by job title, function, general duties, level of effort, and allocation of time. Management operation principles, structure, and organization should also be noted.

7. Collaborative Efforts. List and describe the current and proposed collaborations with government, health, or youth agencies, community- or faith-based organizations, minority organizations, and other researchers. Include letters of support and memoranda of understanding that specify the nature of past, present, and proposed collaborations, and the products/services/activities that will be provided by and to the applicant.

8. Data Sharing and release: Describe plans for the sharing and release of data (See AR-25 for additional information).

9. Project Budget: Provide a detailed budget for each activity undertaken, with accompanying justification of all operating expenses that is consistent with the stated objectives and planned activities of the project. This announcement does not use the modular budget format.

You are required to have a Dun and Bradstreet Data Universal Numbering System (DUNS) number to apply for a grant or cooperative agreement from the Federal government. Your DUNS number must be entered in item 11 of the face page of the PHS 398 application form. The DUNS number is a nine-digit identification number, which uniquely identifies business entities. Obtaining a DUNS number is easy and there is no charge. To obtain a DUNS number, access www.dunandbradstreet.com or call 1-866-705-5711. For more information, see the CDC Web site at http://www.cdc.gov/od/pgo/funding/pubcommt.htm.

3. Submission Dates and Times

LOI Deadline Date: December 31, 2003.

Application Deadline Date: February 19, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

4. Intergovernmental Review of Applications

Executive Order 12372 does not apply to this program.

5. Funding Restrictions

Restrictions, which must be taken into account while writing your budget, are as follows: None.

If you are requesting indirect costs in your budget, you must include a copy of your indirect cost rate agreement. If your indirect cost rate is a provisional rate, the agreement must be less than 12 months of age.

6. Other Submission Requirements

LOI Submission Address: Submit your LOI by express mail delivery service, fax, or e-mail to: Robin Forbes, Centers for Disease Control and Prevention, National Center for Injury Prevention and Control, 4770 Buford Hwy, NE., Mailstop K-62, Atlanta, GA 30341, Phone: 770-488-4037, Fax: 770-488-1662, E-mail: CIPERT@cdc.gov.

Application Submission Address: Submit the original and five copies of your application by mail or express mail delivery service to: Technical Information Management-PA# 04053, CDC Procurement and Grants Office, 2920 Brandywine Road, Atlanta, GA 30341.

Applications may not be submitted electronically at this time.

V. Application Review Information

1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

The goals of CDC-supported research are to advance the understanding of biological systems, improve the control and prevention of disease and injury, and enhance health. In the written comments, reviewers will be asked to evaluate the application in order to judge the likelihood that the proposed research will have a substantial impact on the pursuit of these goals. The scientific review group will address and consider each of the following criteria in assigning the application's overall score, weighting them as appropriate for each application. If the applicant proposes to address both research questions in a single project, the ability of the project to address each of the research questions will be evaluated separately. The application does not need to be strong in all categories to be judged likely to have major scientific impact and thus deserve a high priority score. For example, an investigator may propose to carry out important work that by its nature is not innovative, but is essential to move a field forward.

The criteria are as follows:

Significance: Does this study address an important problem? If the aims of the application are achieved, how will scientific knowledge be advanced? What will be the effect of these studies on the concepts or methods that drive this field?

Approach: Are the conceptual framework, design, methods, and analyses adequately developed, scientifically rigorous, well-integrated, and appropriate to the aims of the project? Does the applicant acknowledge potential problem areas and consider alternative tactics?

Innovation: Does the project employ novel concepts, approaches or methods? Are the aims original and innovative? Does the project challenge existing paradigms or develop new methodologies or technologies?

Investigator: Is the investigator appropriately trained and well suited to carry out this work? Is the work proposed appropriate to the experience level of the principal investigator and other researchers (if any)?

Environment: Does the scientific environment in which the work will be done contribute to the probability of success? Does the proposed research take advantage of unique features of the scientific environment or employ useful collaborative arrangements? Is there evidence of institutional support?

Additional Review Criteria: In addition to the above criteria, the following items will be considered in the determination of scientific merit and priority score:

1. Intervention. Is the potential efficacy or effectiveness of the proposed program within the target population or community theoretically justified and supported with epidemiological, methodological, and behavioral research? How feasible is the implementation of the efficacy or effectiveness study as proposed?

2. Dissemination. Are there plans for the dissemination of findings and the sharing and release of data? Are these plans well articulated? Do the plans include provision for disseminating findings to stakeholders outside of academia?

Protection of Human Subjects from Research Risks: Does the application adequately address the requirements of title 45 CFR part 46 for the protection of human subjects? Not scored; however, an application can be disapproved if the research risks are sufficiently serious and protection against risks is so inadequate as to make the entire application unacceptable.

Inclusion of Women and Minorities in Research: Does the application adequately address the CDC Policy requirements regarding the inclusion of woman, ethnic, and racial groups in the proposed research? This includes: (1) The proposed plan for the inclusion of both sexes and racial and ethnic minority populations for appropriate representation; (2) The proposed justification when representation is limited or absent; (3) A statement as to whether the design of the study is adequate to measure differences when warranted; and (4) A statement as to whether the plans for recruitment and outreach for study participants include the process of establishing partnerships with community(ies) and recognition of mutual benefits.

Inclusion of Children as Participants in Research Involving Human Subjects: The NIH maintains a policy that children (i.e., individuals under the age of 21) must be included in all human subjects research, conducted or supported by the NIH, unless there are scientific and ethical reasons not to include them. This policy applies to all initial (Type 1) applications submitted for receipt dates after October 1, 1998.

All investigators proposing research involving human subjects should read the “NIH Policy and Guidelines” on the inclusion of children as participants in research involving human subjects that is available at http://grants.nih.gov/grants/funding/children/children.htm.

Budget: The reasonableness of the proposed budget and the requested period of support in relation to the proposed research.

2. Review and Selection Process

Applications will be reviewed for completeness by the Procurement and Grants Office (PGO) and for responsiveness of the eligibility information by the NCIPC. Incomplete applications and applications that are non-responsive to the eligibility criteria will not advance through the review process. You will be notified that the application did not meet submission requirements.

Applications that are complete and responsive to the PA will be subjected to a preliminary evaluation (streamline review) by a peer review committee, the Initial Review Group (IRG), convened by NCIPC, to determine if the application is of sufficient technical and scientific merit to warrant further review by the IRG. CDC will withdraw from further consideration applications judged to be noncompetitive and promptly notify the principal investigator or program director and the official signing for the applicant organization. Those applications judged to be competitive will be further evaluated by a dual review process.

1. The primary review will be a peer review conducted by the IRG. All applications will be reviewed for scientific merit in accordance with the review criteria listed above. Applications will be assigned a priority score based on the National Institutes of Health (NIH) scoring system of 100-500 points.

2. The secondary review will be conducted by the Science and Program Review Subcommittee (SPRS) of NCIPC's Advisory Committee for Injury Prevention and Control (ACIPC). The ACIPC Federal agency experts will be invited to attend the secondary review, and will receive modified briefing books (i.e., abstracts, strengths and weaknesses from summary statements, and project officer's briefing materials). ACIPC Federal agency experts will be encouraged to participate in deliberations when applications address overlapping areas of research interest, so that unwarranted duplication in federally funded research can be avoided and special subject area expertise can be shared. The NCIPC Division Associate Directors for Science (ADS) or their designees will attend the secondary review in a similar capacity as the ACIPC Federal agency experts to assure that research priorities of the announcement are understood and to provide background regarding current research activities. Only SPRS members will vote on funding recommendations, and their recommendations will be carried to the entire ACIPC for voting by the ACIPC members in closed session. If any further review is needed by the ACIPC, regarding the recommendations of the SPRS, the factors considered will be the same as those considered by the SPRS.

The committee's responsibility is to develop funding recommendations for the NCIPC Director based on the results of the primary review, the relevance and balance of proposed research relative to the NCIPC programs and priorities, and to assure that unwarranted duplication of federally-funded research does not occur. The secondary review committee has the latitude to recommend to the NCIPC Director, to reach over better-ranked proposals in order to assure maximal impact and balance of proposed research. The factors to be considered will include:

a. The results of the primary review including the application's priority score as the primary factor in the selection process.

b. The relevance and balance of proposed research relative to the NCIPC programs and priorities.

c. The significance of the proposed activities in relation to the priorities and objectives stated in “Healthy People 2010,” the Institute of Medicine report, “Reducing the Burden of Injury,” and the “CDC Injury Research Agenda.”

All awards will be determined by the Director of the NCIPC based on priority scores assigned to applications by the IRG, recommendations by the secondary review committee, e.g., ACIPC, consultation with NCIPC senior staff, and the availability of funds.

VI. Award Administration Information

1. Award Notices

Successful applicants will receive a Notice of Grant Award (NGA) from the CDC Procurement and Grants Office. The NGA shall be the only binding, authorizing document between the recipient and CDC. The NGA will be signed by an authorized Grants Management Officer, and mailed to the recipient fiscal officer identified in the application.

2. Administrative and National Policy Requirements

45 CFR Part 74 or 92

For more information on the Code of Federal Regulations, see the National Archives and Records Administration at the following Internet address: http://www.access.gpo.gov/nara/cfr/cfr-table-search.html.

The following additional requirements apply to this project:

• AR-1 Human Subjects Requirements

• AR-2 Requirements for Inclusion of Women and Racial and Ethnic Minorities in Research

• AR-8 Public Health System Reporting Requirements

• AR-9 Paperwork Reduction Act Requirements

• AR-10 Smoke-Free Workplace Requirements

• AR-11 Healthy People 2010

• AR-12 Lobbying Restrictions

• AR-13 Prohibition on Use of CDC Funds for Certain Gun Control Activities

• AR-14 Accounting System Requirements

• AR-15 Proof of Non-Profit Status

• AR-21 Small, Minority, and Women-Owned Business

• AR-22 Research Integrity

• AR-23 States and Faith-Based Organizations

• AR-24 Health Insurance Portability and Accountability Act Requirements

• AR-25 Release and Sharing of Data

Starting with the December 1, 2003, receipt date, all NCIPC funded investigators seeking more than $250,000 in total costs in a single year are expected to include a plan describing how the final research data will be shared/released or explain why data sharing is not possible. Details on data sharing/release, including the timeliness and name of the project data steward, should be included in a brief paragraph immediately following the Research Plan Section of the PHS 398 form. References to data sharing/release may also be appropriate in other sections of the application (e.g., background and significance, human subjects requirements, etc.) The content of the data sharing/release plan will vary, depending on the data being collected and how the investigator is planning to share the data. The data sharing/release plan will not count towards the application page limit and will not factor into the determination scientific merit or priority scores. Investigators should seek guidance from their institutions, on issues related to institutional policies, local IRB rules, as well as local, state and Federal laws and regulations, including the Privacy Rule.

Further detail on the requirements for addressing data sharing in applications for NCIPC funding may be obtained by contacting NCIPC program staff or visiting the NCIPC Internet Web site at http://www.cdc.gov/ncipc/osp/sharing_policy.htm.

For more information on the Code of Federal Regulations, see the National Archives and Records Administration at the following Internet address: http://www.access.gpo.gov/nara/cfr-table-search.html.

3. Reporting

You must provide CDC with an original, plus two copies of the following reports:

1. Interim progress report, (PHS 2590, OMB Number 0925-0001, rev. 5/2001) no less than 90 days before the end of the budget period. The progress report will serve as your non-competing continuation application, and must contain the following elements:

a. Current Budget Period Activities and Objectives.

b. Current Budget Period Financial Progress.

c. New Budget Period Program Proposed Activity Objectives.

d. Detailed Line-Item Budget and Justification.

e. Additional Requested Information.

f. Measures of Effectiveness.

2. Financial status report, no more than 90 days after the end of the budget period.

3. Final financial and performance reports, no more than 90 days after the end of the project period.

At the completion of the project, the grant recipient will submit a brief (2500 to 5000 words) summary highlighting the findings and their implications for injury prevention programs, policies, etc., that includes a plan for dissemination of the research findings. The results dissemination plan will include publications in peer-reviewed journals and other methodologies for sharing results with stakeholders outside of academic settings (e.g., state and community groups, public health injury prevention practitioners).

These reports must be sent to the Grants Management Specialist listed in the “Agency Contacts” section of this announcement.

VII. Agency Contacts

For general questions about this announcement, contact: Technical Information Management Section, CDC Procurement and Grants Office, 2920 Brandywine Road, Atlanta, GA 30341, Telephone: 770-488-2700.

For scientific/research program technical assistance, contact: Linda Anne Valle, PhD, Prevention Development and Evaluation Branch, Division of Violence Prevention, National Center for Injury Prevention and Control, 4770 Buford Hwy, MS K-60, Atlanta, GA 30341, Telephone: 770-488-4297, E-mail: adv2@cdc.gov.

For questions about peer review, contact: Gwen Cattledge, Science Review Administrator, National Center for Injury Prevention and Control, 4770 Buford Hwy, Mailstop K-02, Atlanta, GA 30341, Phone: 770-488-1430, E-mail: gxc8@cdc.gov.

For budget assistance, contact: Jim Masone, Grants Management (or Contract) Specialist, CDC Procurement and Grants Office, 2920 Brandywine Road, Atlanta, GA 30341, Telephone: 770-488-2736, E-mail: zft2@cdc.gov.

VIII. Other Information

References

Chaffin, M. (2001). Programs to prevent child abuse and neglect. Newsletter of the Society of Pediatric Psychology, 25(3), 6-7.

Gomby, D. S., Culross, P. L., & Behrman, R. E. (1999). Home visiting: Recent program evaluations: Analysis and recommendations. Future of Children, 9(1), 4-26.

Guide to Community Preventive Services. New findings prove early childhood home visitation prevents child maltreatment. Retrieved October 17, 2002 from www.thecommunityguide.org.

Guterman, N. B. (1997). Early prevention of physical child abuse and neglect: Existing evidence and future directions. Child Maltreatment, 2, 12-34.

MacLeod, J., & Nelson, G. (2000). Programs for the promotion of family wellness and the prevention of child maltreatment: A meta-analytic review. Child Abuse & Neglect, 24, 1127-1149.

MacMillan, H. L., MacMillan, J. H., Offort, D. R., Griffith, L., & MacMillan, A. (1994). Primary prevention of child physical abuse and neglect: A critical review. Part I. Journal of Child Psychology and Psychiatry, 35, 835-856.

Roberts, R. (1997). Preventing child abuse and neglect through home visiting: Informing practice with research. The APSAC Advisor, 10(1), 7-9.

Thornton, T. N., Craft, C. A., Dahlberg, L. L., Lynch, B. S., Baer, K. (2000). Best practices of youth violence prevention: A sourcebook for community action. Atlanta, GA: Centers for Disease Control and Prevention, National Center for Injury Prevention and Control.

United States General Accounting Office, (1990). Home visiting: A promising strategy for at-risk families. (GAO/HRD Publication No. 90-83). Gaithersburg, MD: U.S. General Accounting Office.

Dated: November 24, 2003.
Edward Schultz,
Acting Director, Procurement and Grants Office, Centers for Disease Control and Prevention.

[FR Doc. 03-29788 Filed 11-28-03; 8:45 am]

BILLING CODE 4163-18-P